DEPARTMENT OF AGRICULTURE

Submission for OMB Review; Comment Request

November 14, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of Organizations Providing or Administering SNAP Incentives at Farmer's Market (Farmers Market Incentive Provider Study) (FMIPS).

OMB Control Number: 0584-NEW.

Summary of Collection: The USDA, Food and Nutrition Service (FNS), is undertaking initiatives to improve access to healthy foods among nutrition assistance program participants. FNS is taking steps to support access to fresh fruits and vegetables through farmers markets (FM) for individuals participating in programs such as the Supplemental Nutrition Assistance Program (SNAP). The authority for this collection is authorized under 17(a)(1) of the Food and Nutrition Act of 2008 (7 U.S.C. 2026).

Need and Use of the Information: The overall objective of this collection is to understand how private organizations provide and administer financial incentives for SNAP participants shopping at farmers markets. In addition, the collection aims to assess how well these incentives programs work concerning the purchase of fresh fruits and vegetables at farmers' markets by SNAP participants. If the data is not collected, USDA/FNS will be unable to improve its understanding of how SNAP incentives impact the sale of healthier foods to SNAP clients in the farmers' market setting.

Description of Respondents: Business or other for-profit.

Number of Respondents: 315.

Frequency of Responses: Reporting: On occasion.

Total Burden Hours: 342.

Title: Understanding the Rates, Causes, and Costs of Churning in the Supplemental Nutrition Assistance Program (SNAP).

OMB Control Number: 0584-NEW.

Summary of Collection: Section 17 [7 U.S.C. 2026] of the Food and Nutrition Act of 2008 provides general legislative authority for the planned data collection. This section authorizes the Secretary of Agriculture to enter into contracts with private institutions to undertake research that will help to improve the administration and effectiveness of the Supplemental Nutrition Assistance Program (SNAP) in delivering nutrition-related benefits. SNAP is the U.S. Department of Agriculture's largest nutrition program, enabling millions of low-income Americans to purchase groceries. The program is designed to respond to broad economic and individual circumstances as they change over time. There are also times, however, when households leave the program despite remaining eligible. Eligible households not receiving SNAP benefits are of concern to the program because of their reduced access to nutritious foods. The Office of Research and Analysis in USDA's Food and Nutrition Service has undertaken a study on the causes and costs of churning in SNAP. Churning occurs when a SNAP participant leaves the program and returns within a short period of time, defined here as four months or less.

Need and Use of the Information: Information will be collected from the study to better understand (1) the rates and patterns of churning; (2) why participants churn; (3) what happens administratively when a participant returns to SNAP after a brief spell of non-receipt, and (4) the costs of churn to both programs and participants. If the study information is not collected, those responsible at the federal, state, and local levels for designing and implementing SNAP policies and procedures will not have the value of this research in making their decisions on matters affecting participant churn.

Description of Respondents: Individuals or households; Not-for-profit institutions; State, Local, or Tribal Government .

Number of Respondents: 201.

Frequency of Responses: Reporting: Annually.

Total Burden Hours: 850.

Title: Study of the effectiveness of Efforts to Improve Supplemental Nutrition Assistance Program (SNAP) Access Among Medicare's Extra Help Population Pilot Projects.

OMB Control Number: 0584-NEW.

Summary of Collection: The Agriculture, Rural Development, Food and Drug Administration, and Related Agencies Appropriations Act, 2010 (Pub. L. 111-80) provides the Food and Nutrition Service (FNS) with funds to test the effectiveness of pilot projects designed to increase elderly participation in the Supplemental Nutrition Assistance Program (SNAP). Historically, elderly individuals who are eligible for SNAP have the lowest participation rate among all demographic groups. The pilot projects will attempt to increase participation in SNAP among beneficiaries of Medicare's Extra Help by using data from Extra Help applications that are forwarded to State Medicaid offices. Because Extra Help and SNAP eligibility requirements do not directly correspond, these pilot projects will evaluate methods of using these Medicaid data to improve access to SNAP among Extra Help beneficiaries.

Need and Use of the Information: FNS will collect information to understand how the pilot projects operated, who they served, and the extent to which they generated any measureable effects on participation cost, and SNAP benefits. The study will provide federal and state policymakers, as well as program administrators at these levels, with information on whether and to what extent the pilot projects have reduced the barriers to SNAP participants experienced by Extra Help applicants.

Description of Respondents: Individuals or household.

Number of Respondents: 6,138.

Frequency of Responses: Reporting: On occasion; Annually.

Total Burden Hours: 1,940.

Title: National School Lunch Program.

OMB Control Number: 0584-0006.

Summary of Collection: The Richard B. Russell National School Lunch Act (NSLA) in Section 9(a)(4), 42 U.S.C. 1758(a)(4), requires that school meals reflect the latest “Dietary Guidelines for Americans” (Dietary Guidelines). In addition, section 201 of the Healthy, Hunger Free Kids Act of 2010 (HHFKA), Public Law 111-296 amends Section 4(b) of the NSLA, 42 U.S.C. 1753(b) to require the Department of Agriculture to issue regulations to update the meal patterns and nutrition standards for school lunches and breakfasts based on the recommendations issued by the Food and Nutrition board of the National Research Council of the National Academies of Science, part of the Institution of Medicine.

Need and Use of the Information: The purpose of this data collection associated with rulemaking is to comply with the requirements of the HHFKA Public Law 111-296. The rule increases the scope of State Agency (SA) administrative reviews of School Food Authorities (SFA) by combining the current Coordinated Review Effort with the requirements of the School Meals Initiative reviews, and increases their frequency to once every three years as required by the HHFKA. The Food and Nutrition Service would not be able to properly monitor SA and SDA compliance without this data collection.

Description of Respondents: State, Local, or Tribal Government.

Number of Respondents: 122,661.

Frequency of Responses: Recordkeeping; Reporting: On occasion; Monthly.

Total Burden Hours: 9,848,064.

Ruth Brown,
Departmental Information Collection Clearance Officer.

[FR Doc. 2012-28203 Filed 11-19-12; 8:45 am]

BILLING CODE 3410-30-P